DEPARTMENT OF TRANSPORTATION

Maritime Administration

[USCG-2004-17696]

Freeport McMoRan Energy L.L.C. Main Pass Energy Hub Liquefied Natural Gas Deepwater Port License Application Amendment; Preparation of Environmental Assessment

AGENCY: Maritime Administration, DOT.

ACTION: Notice of amended application; Notice of Intent; Request for comments.

SUMMARY: The Maritime Administration (MARAD), and the U.S. Coast Guard announce that we have received an application amendment for the licensing of the Main Pass Energy Hub (MPEH) natural gas deepwater port, and that the application amendment contains the required information to continue processing the application. This notice summarizes the applicant's plans and the procedures that will be followed in considering this application amendment. The Coast Guard, in coordination with MARAD, will prepare an environmental assessment (EA) as part of the environmental review of this license application amendment. Publication of this notice also begins a public comment period on the application amendment and on the procedures and process to be followed in completing the review.

The application amendment describes the change in project regassification technology from the “open-loop” vaporization system originally proposed for Main Pass Energy Hub to a “closed-loop” LNG vaporization system. The proposed closed-loop vaporization system is a submerged combustion vaporization system with selective catalytic reduction (SCV/SCR). The proposed facility would be constructed in the Gulf of Mexico in Main Pass Lease Block 299 (MP 299), approximately 16 miles southeast of Venice, Louisiana. A Draft and Final Environmental Impact Statement were published on the original application on June 17, 2005 and March 14, 2006, respectively.

DATES: Material submitted in response to the request for comment must reach the Docket Management Facility by September 11, 2006.

ADDRESSES: Copies of the license application, the Draft and Final Environmental Impact Statements (DEIS/FEIS), the application amendment and associated comments and documentation are available for viewing at the DOT's docket management Web site: http://dms.dot.gov under docket number 17696. Address docket submissions for USCG-2004-17696 to: Docket Management Facility, U.S. Department of Transportation, 400 Seventh Street, SW., Washington, DC 20590-0001.

The Docket Management Facility accepts hand-delivered submissions, and makes docket contents available for public inspection and copying at this address in room PL-401 between 9 a.m. and 5 p.m., Monday through Friday, except Federal holidays. The telephone number is 202-366-9329, the fax number is 202-493-2251, and the Web site for electronic submissions or for electronic access to docket contents is http://dms.dot.gov.

FOR FURTHER INFORMATION CONTACT: Roddy C. Bachman, U.S. Coast Guard, telephone: 202-372-1451, e-mail: rbachman@comdt.uscg.mil. If you have questions on viewing the docket, call Renee V. Wright, Program Manager, Docket Operations, telephone: 202-493-0402.

SUPPLEMENTARY INFORMATION:

Receipt of Application Amendment

On May 31, 2006, the Coast Guard and MARAD received an amendment for the Main Pass Energy Hub deepwater port license application from Freeport McMoRan Energy L.L.C.

Background

The construction and operation of a deepwater port must be authorized by the Secretary of Transportation (as delegated to the Administrator of MARAD). Before a license decision is made, the DWPA and the implementing regulations found at 33 CFR part 148 et seq. provide for an application review following requirements set forth in the DWPA, the National Environmental Policy Act (NEPA), and other applicable laws and regulations. To comply with this requirement, the Coast Guard and MARAD, as the lead federal agencies for the license application review process under the DWPA and NEPA, completed a Draft EIS that was released on June 17, 2005. Workshops and public hearings were held in Grand Bay, Alabama, New Orleans, Louisiana, and Pascagoula, Mississippi to allow public comment and involvement. A Final EIS was released on March 14, 2006 and public hearings were held in each Adjacent Coastal State to comply with the requirements of the DWPA. During this public interest review process, extensive public and agency comments were submitted that discussed the project and the SCV and open rack vaporization (ORV) technologies as reasonable alternatives for the regasification technology for the project. For this and other reasons, the Final EIS included a robust and detailed discussion and evaluation of both SCV and ORV technologies.

The applicant is now proposing in this application amendment to change the project to use SCV in the place of ORV. Although SCV/SCR was fully evaluated as a reasonable alternative in sufficient detail to provide an in-depth public interest review of that alternative, the SCV/SCR system described in the FEIS was a somewhat generic system based on an existing application of this technology at an onshore LNG facility. The application amendment contains the actual design that would be used, and while very similar to the more generic system described in the FEIS, the expanded and refined information regarding the SCV/SCR warrants development of additional environmental evaluation and review. Following review and coordination of the amendment between MARAD, the Coast Guard, EPA, NOAA, and the U.S. Army Corps of Engineers (USACE), MARAD and the Coast Guard have determined that an Environmental Assessment will provide the appropriate level of NEPA review and analysis. The decision is based upon a finding that the proposed amendment: (i) Does not make substantial changes in the proposed action that are relevant to environmental concerns; and, (ii) there are no significant new circumstances or information relevant to environmental concerns and bearing on the proposed action or its impacts. Therefore, our evaluation confirms that the EA is an appropriate document to satisfy the DWPA and NEPA requirements in this situation. This process, preparation of an EA that describes the project changes and focuses the evaluation on the amendment, using and incorporating by reference the recently published FEIS, will meet the statutory requirements and intent of NEPA and the DWPA by providing a detailed environmental assessment of the changes. The process will allow ample opportunity for meaningful public comment and involvement. Our initial review of the changes proposed in the application amendment indicates a reduction in impacts in several key resource areas that were originally identified with the ORV technology. In addition, a number of comments from the public, and State and Federal agencies discussed and supported SCV as a preferred alternative.

The Coast Guard will consider comments on the application amendment, the proposed changes (including the level of significance of the changes), and on the determination and process of using an EA for the environmental evaluation. Following completion and release of the EA, there will be a second public notice and a 45 day public comment period where the Coast Guard and MARAD will receive comments on both the EA and the amended application. Public hearings in the adjacent coastal states will be held approximately 2 weeks after release of the EA. A 45 day comment period will follow the public hearings during which the Governors of the adjacent coastal states may approve, disapprove or remain silent on the application, and the EPA Administrator will also be afforded an opportunity to inform the MARAD Administrator if the deepwater port as proposed would not conform with the applicable provisions of the Clean Air Act, the Clean Water Act, or the Marine Protection, Research and Sanctuaries Act. Within 90 days of the final public hearing, MARAD will issue a record of decision (ROD) on the application.

You can address any questions about the proposed action or the EA process to the Coast Guard project manager identified in FOR FURTHER INFORMATION CONTACT.

Request for Comments

We request public comments or other relevant information on the application amendment and/or the environmental evaluation process described in this notice. Please reference the application amendment and the EIS that are available on the docket. You can submit material to the Docket Management Facility during the public comment period (see DATES). MARAD and the Coast Guard will consider all comments submitted during the public comment periods. Although MARAD and the Coast Guard have published a FEIS providing a full and complete evaluation of other aspects of the application, and this EA will focus on the application amendment, we will accept and consider comments on any aspect of the project or the process.

Submissions should include:

• Docket number USCG-2004-17696.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope. Regardless of the method used for submitting comments or material, submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

By Order of the Maritime Administrator.
Dated: August 7, 2006.
Joel C. Richard,
Secretary, Maritime Administration.

[FR Doc. E6-13097 Filed 8-9-06; 8:45 am]

BILLING CODE 4910-81-P